DEPARTMENT OF DEFENSE

Office of the Secretary

[Docket ID: DoD-2024-OS-0067]

Proposed Collection; Comment Request

AGENCY: Office of the Under Secretary of Defense (Comptroller)/Chief Financial Officer, Department of Defense (DoD).

ACTION: 60-Day information collection notice.

SUMMARY: In compliance with the Paperwork Reduction Act of 1995, the Defense Finance and Accounting Service announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 19, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Enterprise Standards and Solutions, Disbursing, Defense Finance and Accounting Services (DFAS), 8899 E 56th Street, Indianapolis, IN 46249-0201, POC: Kellen Stout (DFAS IMCO), (317) 212-1801.

SUPPLEMENTARY INFORMATION:

Title; Associated Form; and OMB Number: Waiver/Remission of Indebtedness Application; DD Form 2789; OMB Control Number 0730-0009.

Needs and Uses: The information collected on this form will be used by the DFAS to determine whether there is indication of fraud, misrepresentation, fault, or lack of good faith, and whether it is in the best interest of the United States to forgive the debt. It will also be used to determine if a debtor should have been reasonably aware of the overpayment when it occurred. If a request for waiver is denied, the debt collection office (DCO) (usually the payroll office) will continue or resume collection if collection action was previously suspended. If a request for waiver is approved, then the DCO must cancel any outstanding portion of the debt and refund any portion of the debt that may have been collected prior to waiver approval.

Affected Public: Individuals or households.

Number of Respondents: 4,500.

Responses per Respondent: 1.

Annual Responses: 4,500.

Average Burden per Response: 80 minutes.

Annual Burden Hours: 6,000.

Frequency: On occasion.

Dated: June 12, 2024.
Aaron T. Siegel,
Alternate OSD Federal Register Liaison Officer, Department of Defense.

[FR Doc. 2024-13459 Filed 6-18-24; 8:45 am]

BILLING CODE 6001-FR-P